DEPARTMENT OF LABOR

Office of the Assistant Secretary for Policy

Proposed Information Collection Request Submitted for Public Comment and Recommendations: The National Agricultural Workers Survey

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Submit comments on or before September 30, 2001.

ADDRESSES: Send comments to Daniel Carroll, Economist, Office of the Assistant Secretary for Policy, U.S. Department of Labor, Room S-2312, 200 Constitution Ave., NW, Washington, D.C. 20210. Commenters are encouraged to send their comments on a computer disk, or via Internet E-mail to carroll-daniel@dol.gov, along with an original printed copy. Mr. Carroll can be reached at (202) 693-5077 (voice), or (202) 693-5960 (facsimile).

FOR FURTHER INFORMATION CONTACT: Daniel Carroll, Economist and Program Officer for the National Agricultural Workers Survey, Office of the Assistant Secretary for Policy, U.S. Department of Labor, Room S-2312, 200 Constitution Ave., NW, Washington, D.C. 20210. Mr. Carroll can be reached via Internet E-mail at carroll-daniel@dol.gov or by telephone (202) 693-5077. Copies of the referenced information collection request are available for inspection and copying and will be mailed to persons who request copies by telephoning Daniel Carroll at (202) 693-5077. For more information about the National Agricultural Workers Survey (NAWS), consult the NAWS home page at: http://www.dol.gov/dol/asp/public/programs/agworker/naws.htm.

SUPPLEMENTARY INFORMATION:

I. Background

The Department of Labor (DOL) began surveying hired farm workers in 1988 via the National Agricultural Workers Survey (NAWS). The primary focus of the NAWS is to describe the demographic and employment characteristics of hired crop farm workers at the national level. To date, over 30,000 farm workers have been interviewed.

Prior to the NAWS and throughout the post-war period, data on farm workers was collected through the Current Population Survey (CPS). The U.S. Department of Agriculture (USDA) funded this effort and its Economic Research Service (ERS) analyzed and published the data. The responsibility for collecting data on the demographic and employment characteristics of hired farm workers was assumed by the Department of Labor in 1988.

The NAWS provides an understanding of the manpower resources available to U.S. agriculture, and both public and private service programs use the data for planning, implementing, and evaluating farm worker programs. It is the only national data source on the demographic and employment characteristics of hired farm workers.

The NAWS samples crop farm workers in three cycles each year in order to capture the seasonality of agricultural employment. Workers are located and sampled at their work sites. During the initial contact, arrangements are made to interview the respondent at home or at another convenient location. Currently, approximately 4,000 interviews are obtained each year.

The NAWS includes a primary questionnaire and four supplements (youth, parent, injury, and health). The purpose of this notice is to solicit comments on a proposed revision to the health supplement. The questionnaires are described below.

The NAWS Questionnaire (Primary Instrument)

The primary instrument, in place since 1988, is administered to persons 14 years and older. Currently, approximately 4,000 interviews are conducted each year. It contains a family/household grid, where the interviewer records the education level and migration patterns of each member of the respondent's household, and an employment grid, where a full year of information on the work and geographic movement of the respondent is recorded. It also contains sections on income, assets and use of public services, experience working with pesticides, including special training, and work authorization status.

The employment profile includes the task and crop for agricultural jobs, type and amount of non-agricultural work, periods of unemployment and time spent abroad, and the respondent's location for every week of the year preceding the interview. For the respondent's current job, the NAWS collects information on wages and payment method (piece or hourly), health insurance, workers compensation and unemployment insurance, housing arrangements and other benefits and working conditions.

The demographic profile includes age, gender, place of birth, marital status, language ability, use of education and job training programs, and family history working in U.S. agriculture.

The Youth Labor and Education Supplement

This supplement, in place since fiscal year 2000, is administered to workers ages 14 to 18 who complete the primary NAWS questionnaire. Approximately 450 interviews are conducted each year. The labor component solicits the respondent's age when he/she first went to an agricultural field in the U.S. and when he/she first worked in U.S. agriculture, the method of payment for work, the types of implements (ladder) and equipment (machines, vehicles) used and age when used, and how earnings from agricultural employment are allocated.

The education component solicits school and attendance information for the 12-month period preceding the date of interview and, for those youth who did not attend any school in the previous 12 months, the date of last attendance, type and location of school, reasons for no longer attending, and educational aspirations in the U.S.

The Parent Labor and Education Supplement

This supplement, in place since fiscal year 2000, is administered to NAWS respondents who are parents of U.S. resident, dependent children between the ages of 6 and 18. Currently, approximately 750 parents provide information on an average of two children each, or 1,500 children per year. The labor component asks, for those children who did U.S. farm work in the 12-month period preceding the date of the interview, how many days the child worked in agriculture, if the child received a separate (individual) payment for that work, and the reason why the child worked.

The education component solicits information on school attendance and performance in the 12-month period preceding the interview, including number and type of schools attended, average grades, number of school days missed and reasons for days absent, number of times the parent met with the child's teacher to discuss the child's educational progress, and the parent's expectations for the child to graduate.

The Occupational Injury Supplement

This supplement, sponsored by the Centers for Disease Control and Prevention, National Institute for Occupational Safety and Health (CDC/NIOSH), has been in place since 1999. It is administered to all NAWS respondents who had a qualifying occupational injury in U.S. agriculture in the 12-month period preceding the date of interview. Currently, each year approximately 4,000 respondents are administered one question to determine if the respondent has a qualifying injury. Respondents who have a qualifying injury are administered the full injury module. For each qualifying injury, the respondent is asked how, when and where the injury occurred, the body part(s) injured, where medical treatment was received and how the treatment was paid for, and the number of days the respondent couldn't work or worked at a reduced activity level.

The Health Supplement

This supplement, sponsored by the Centers for Disease Control and Prevention, National Institute for Occupational Safety and Health (CDC/NIOSH), has been in place since 1999. It is administered to all NAWS respondents. Four types of health information are solicited: history of smoking and drinking, a 12-month history of problems with body systems (gastrointestinal, respiratory, musculoskeletal, and skin) a lifetime health history of disease, and access to health care.

The proposed revision to this supplement is to include four new questions that would be administered to adult women only (about 600 per year). The four questions will come from the Behavioral Risk Factor Survey and will solicit information on cervical cancer screening. Collecting cervical cancer screening data from adult farm worker women will help CDC's Division of Cancer Prevention and Control address its mission of identifying and then reaching women who have rarely or never received cervical cancer screening. CDC has identified migrant and seasonal farm worker women as having an increased risk of cervical cancer and a population in which surveillance for cervical cancer screening has been minimal.

II. Desired Focus of Comments

Currently, the Office of the Assistant Secretary for Policy (OASP) is soliciting comments concerning the proposed revision of the CDC/NIOSH sponsored health supplement and the extension of the information collection via all NAWS instruments. OASP is particularly interested in comments which:

Evaluate whether the proposed collection of information is necessary for the proper performance of the functions of the agency, including whether the information will have practical utility;

Evaluate the accuracy of the agency's estimate of the burden of the proposed collection of information, including the validity of the methodology and assumptions used;

Enhance the quality, utility, and clarity of the information to be collected; and

Minimize the burden of the collection of information on those who are to respond.

Hard copies of the instruments associated with the proposed information collection request may be obtained by contacting the employee listed above in the FOR FURTHER INFORMATION CONTACT section of this notice.

III. Current Actions

This action requests OMB approval of the paperwork requirements for revising the health supplement to the National Agricultural Workers Survey (NAWS).

Type of Review: Revision.

Agency: Office of the Assistant Secretary for Policy.

Title: CDC/NIOSH Health Supplement to the National Agricultural Workers Survey.

OMB Number: 1225-0044.

Record keeping: Records are kept for four years.

Affected Public: Farm workers and farm employers

Total Respondents: 5,500 (4,000 farm workers will receive an interview and 1,500 employers will be briefly interviewed to ascertain the location of the potential worker respondents).

Frequency: Annually. The survey is administered in three 10-12 week cycles each year, beginning in October, February, and June.

Total Responses: The primary questionnaire will be administered to approximately 4,000 hired crop workers each year. All of these respondents will receive the general health supplement. Approximately 600 of the 4,000 respondents will be adult females. The 600 adult females will be administered four additional questions on cervical cancer screening. Approximately 450 of the 4,000 respondents will be youth between the ages of 14 and 18. The 450 youth will receive the youth supplement. Approximately 750 of the 4,000 respondents will be parents of U.S. resident, dependent children. The 750 parents will be administered the parent supplement.

Average Time Per Response: The primary questionnaire and the general health supplement together take approximately one hour. The parent and youth supplements each take approximately 20 minutes. The injury supplement, when a qualifying injury is reported, takes approximately 15 minutes. The interview with the farm employer takes about 20 minutes.

Estimated Total Burden Hours: 4,390 hours. The burden time reflects the time to administer the primary questionnaire and all supplements, including the time to conduct initial interviews with agricultural employers. No added burden time would result from the revised health supplement, as a greater number of preexisting questions will be discontinued.

Total Burden Cost (capital/startup): $0.

Total Burden Cost (operating/maintaining): $0.

Comments submitted in response to this notice will be summarized and/or included in the request for Office of Management and Budget approval of the information collection request; they will also become a matter of public record.

Dated: July 26, 2001.
Authorized Official in the Office of the Assistant Secretary for Policy.
Roland G. Droitsch,
Deputy Assistant Secretary for Policy.

[FR Doc. 01-19311 Filed 8-1-01; 8:45 am]

BILLING CODE 4510-23-P